DEPARTMENT OF LABOR

Occupational Safety and Health Administration

[Docket No. ICR-1218-0145(2000)]

Formaldehyde Standard; Extension of the Office of Management and Budget's (OMB) Approval of Information-Collection (Paperwork) Requirements

AGENCY: Occupational Safety and Health Administration (OSHA), Labor.

ACTION: Notice of an opportunity for public comment.

SUMMARY: OSHA solicits comments concerning the increased burden hours proposed for, and the extension of, the information-collection requirements contained in its Formaldehyde Standard (29 CFR 1910.1048).

Request for Comment: The Agency has a particular interest in comments on the following issues:

• Whether the information-collection requirements are necessary for the proper performance of the Agency's functions, including whether the information is useful;

• The accuracy of the Agency's estimate of the burden (time and costs) of the information-collection requirements, including the validity of the methodology and assumptions used;

• The quality, utility, and clarity of the information collected; and

• Ways to minimize the burden on employers who must comply; for example, by using automated or other technological information-collection and -transmission techniques.

DATES: Submit written comments on or before November 27, 2000.

ADDRESSES: Submit written comments to the Docket Office, Docket No. ICR-1218-0145(2000), OSHA, U.S. Department of Labor, Room N-2625, 200 Constitution Avenue, NW., Washington, DC 20210; telephone: (202) 693-2350. Commenters may transmit written comments of 10 pages or less in length by facsimile to (202) 693-1648.

FOR FURTHER INFORMATION CONTACT: Todd R. Owen, Directorate of Policy, OSHA, U.S. Department of Labor, Room N-3641, 200 Constitution Avenue, NW., Washington, DC 20210; telephone: (202) 693-2444. A copy of the Agency's Information-Collection Request (ICR) supporting the need for the information-collection requirements specified by the Formaldehyde Standard is available for inspection and copying in the Docket Office, or you may request a mailed copy by telephoning Todd Owen at (202) 693-2444. For electronic copies of this ICR, contact OSHA on the Internet at http://www.osha.gov.

SUPPLEMENTARY INFORMATION:

I. Background

The Department of Labor, as part of its continuing effort to reduce paperwork and respondent burden, conducts a preclearance consultation program to provide the general public and Federal agencies with an opportunity to comment on proposed and continuing information-collection requirements in accordance with the Paperwork Reduction Act of 1995 (PRA-95) (44 U.S.C. 3506(c)(2)(A)). This program ensures that information is in the desired format, reporting burden (time and costs) is minimal, collection instruments are clearly understood, and OSHA's estimate of the information burden is correct. The Occupational Safety and Health Act of 1970 (the Act) authorizes information collection by employers as necessary or appropriate for enforcement of the Act or for developing information regarding the causes and prevention of occupational injuries, illnesses, and accidents (29 U.S.C. 657).

The information-collection requirements specified in the Formaldehyde Standard protect employees from the adverse health effects that may result from their exposure to this hazardous chemical.The major information-collection requirements of the standard address: Monitoring employee exposures to formaldehyde; notifying employees of their exposure levels; providing examining physicians with specific information; ensuring that employees receive a copy of their medical-examination results; training; maintaining employees' exposure-monitoring and medical records for specified periods; and providing OSHA, the National Institute for Occupational Safety and Health, the affected employees, and their authorized representatives with access to these records.

II. Proposed Actions

OSHA proposes to increase the existing burden hours specified for, and to extend OMB's approval of, the collection-of-information (paperwork) requirements contained in its Formaldehyde Standard. The Agency is increasing its previous burden-hour estimate of 521,110 hours by 57,334 hours. This adjustment occurred because the Agency is including burden hours for training in the burden-hour estimates, and is also increasing the number of employees estimated to receive the required medical examinations. The Agency will summarize the comments submitted in response to this notice, and will include this summary in the request to OMB to extend the approval of the information-collection requirements contained in the Formaldehyde Standard.

Type of Review: Extension of currently approved information-collection requirements.

Title: Formaldehyde Standard (29 CFR 1910.1048).

OMB Number: 1218-0145.

Affected Public: Business or other for-profit organizations; Federal government; State, Local, or Tribal governments.

Number of Respondents: 67,619.

Frequency: On occasion.

Total Responses: 4,808,412.

Average Time per Response: Varies from 5 minutes for an employer to maintain exposure-monitoring and medical records for each employee, to 1 hour for an employee to receive a medical examination.

Estimated Total Burden Hours: 578,444 hours.

Estimated Cost (Operation Maintenance): $65,639,922.

III. Authority and Signature

Charles N. Jeffress, Assistant Secretary of Labor for Occupational Safety and Health, directed the preparation of this notice. The authority for this notice is the Paperwork Reduction Act of 1995 (44 U.S.C. 3506) and Secretary of Labor's Order No. 3-2000 (65 FR 50017).

Signed at Washington, DC on September 21, 2000.
Charles N. Jeffress,
Assistant Secretary of Labor.

[FR Doc. 00-24807 Filed 9-26-00; 8:45 am]

BILLING CODE 4510-26-P